DEPARTMENT OF HOUSING AND URBAN DEVELOPMENT

[Docket No. FR-6447-N-02]

Notice of Federal Advisory Committee Meeting; Manufactured Housing Consensus Committee (MHCC)

AGENCY: Office of the Assistant Secretary for Housing—Federal Housing Commissioner, Department of Housing and Urban Development (HUD).

ACTION: Notice.

SUMMARY: This notice sets forth the schedule and proposed agenda for the meeting of the MHCC Committee, and MHCC Subcommittees to include the following: Structure and Design Subcommittee, Technical Systems Subcommittee and Regulatory Enforcement Subcommittee. The meeting is open to the public and the site is accessible to individuals with disabilities. The agenda provides an opportunity for interested parties to comment on the business before the MHCC and MHCC Subcommittees. The Designated Federal Official (DFO) may adjourn the meeting if it is in the public interest.

DATES: The meeting will be held on September 11, 2024, 8:30 a.m. to 2:30 p.m. Eastern Standard Time (EST) and on September 12, 2024, 9:00 a.m. to 5:00 p.m. Eastern Standard Time (EST).

ADDRESSES: The meeting will be held in-person. The meeting will be held at Hotel Elkhart by Hilton, 500 South Main Street, Elkhart, IN 46516.

FOR FURTHER INFORMATION CONTACT: Teresa B. Payne, Administrator, Office of Manufactured Housing Programs, Department of Housing and Urban Development, 451 7th Street SW, Room 9166, Washington, DC 20410, telephone (202) 708-6423 (this is not a toll-free number). HUD welcomes and is prepared to receive calls from individuals who are deaf or hard of hearing, as well as individuals with speech and communication disabilities. To learn more about how to make an accessible telephone call, please visit: https://www.fcc.gov/consumers/guides/telecommunications-relay-service-trs. Individuals who require an alternative aid or service to communicate effectively with HUD should email the point of contact listed above and provide a brief description of their preferred method of communication.

SUPPLEMENTARY INFORMATION:

Background

Notice of these meetings is provided in accordance with the Federal Advisory Committee Act, 5. U.S.C. 1009(a)(2) through implementing regulations at 41 CFR 102-3.150. The MHCC was established by the National Manufactured Housing Construction and Safety Standards Act of 1974, 42 U.S.C. 5403(a)(3), as amended by the Manufactured Housing Improvement Act of 2000 (Pub. L. 106-569). According to 42 U.S.C. 5403, as amended, the purposes of the MHCC are to:

• Provide periodic recommendations to the Secretary to adopt, revise, and interpret the Federal manufactured housing construction and safety standards in accordance with this subsection;

• Provide periodic recommendations to the Secretary to adopt, revise, and interpret the procedural and enforcement regulations, including regulations specifying the permissible scope and conduct of monitoring in accordance with subsection (b);

• Be organized and carry out its business in a manner that guarantees a fair opportunity for the expression and consideration of various positions and for public participation.

The MHCC is deemed an advisory committee not composed of Federal employees.

Public Comment

Interested parties wishing to make comments on the business of the MHCC are encouraged to register on or before Wednesday, September 4, 2024, by contacting Home Innovation Research Labs; Attention: Kevin Kauffman, 400 Prince Georges Blvd., Upper Marlboro, MD 20774, or email to mhcc@homeinnovation.com or call 1-888-602-4663. Written comments are encouraged. The MHCC strives to accommodate interested parties' comments to the extent possible within the time constraints of the meeting agenda. Advance registration is strongly encouraged. The MHCC will also provide an opportunity for public comment on specific matters before the MHCC.

Nine pending Log Items are subject to review, including but not limited to:

Standards for ties, installation, exit facilities and doors, and requirements of Subpart F. The meeting is scheduled for two days to provide sufficient time for thorough consideration. HUD, therefore, strongly encourages active participation by committee members, stakeholders, and other interested parties. The meeting will also allow time for members and other interested parties to visit the Recreational Vehicle and Manufactured Housing Hall of Fame and attend a brief celebration in recognition of the 50th anniversary of the Manufactured Housing Construction and Safety Standards Act of 1974.

Tentative Agenda for the September 2024 Meeting

Wednesday, September 11, 2024

8:30-9:00 a.m. Registration

9:00-9:05 a.m. Call to Order—Chair, Co-Chair, and Teresa Payne, Designated Federal Officer (DFO)

9:05-9:25 a.m. Welcome and Opening Remarks

A. Opening Remarks—FHA Commissioner

B. Roll Call—Kevin Kauffman, Administering Organization (AO)

a. Introductions

b. Manufactured Housing Consensus Committee (MHCC) Members

c. U.S. Department of Housing and Urban Development (HUD) Staff

C. Administrative Announcements—Teresa Payne, DFO, and Kevin Kauffman, AO

9:25-9:50 a.m. Public Comment Period (Public Encouraged to Sign Up with AO)

9:50-10:50 a.m. Oliver Technologies and Minute Man Anchors Presentation—Scott Oliver and George Waechter

10:50-11:50 a.m. Structure and Design Subcommittee Meeting (Log 229, 231, 232, and 235)

11:50-1:20 p.m. Lunch

1:20-2:10 p.m. Technical Systems Subcommittee Meeting (Log 227)

2:10-2:20 p.m. Public Comment Period (Public Encouraged to Sign Up with AO)

2:20-2:30 p.m. Daily Wrap Up—DFO and AO

2:30 p.m. Adjourn for the Day

3:00-5:00 p.m. Visit RV/MH Hall of Fame (MHCC members are encouraged to attend)

5:00-6:30 p.m. 50th Anniversary Celebration & Networking Exchange

Thursday, September 12, 2024

9:00-9:05 a.m. Reconvene Meeting—Chair and DFO

9:05-9:10 a.m. Call to Order—Chair, Co-Chair, and Teresa Payne, Designated Federal Officer (DFO)

9:10-9:20 a.m. Welcome and Opening Remarks

A. Roll Call—Kevin Kauffman, Administering Organization (AO)

a. Introductions

b. Manufactured Housing Consensus Committee (MHCC) Members

c. U.S. Department of Housing and Urban Development (HUD) Staff

B. Administrative Announcements—Teresa Payne, DFO, and Kevin Kauffman, AO

9:20-10:20 a.m. Regulatory Subcommittee Meeting (Log 228, 230, 233, and 234)

10:20-10:40 a.m. Public Comment Period (Public Encouraged to Sign Up with AO)

10:40-12:00 p.m. Review of Current Log and Action Items (Log 227-235) or Subcommittee Meetings if Necessary

12:00-1:30 p.m. Lunch

1:30-1:45 p.m. Public Comment Period (Public Encouraged to Sign Up with AO)

1:45-3:00 p.m. Continue Review of Current Log and Action Items (Log 227-235) or Subcommittee Meetings if Necessary

3:00-3:15 p.m. Break

3:15-4:50 p.m. Continue Review of Current Log and Action Items (Log 227-235) or Subcommittee Meetings if Necessary

4:50-5:00 p.m. Daily Wrap Up—DFO and AO

5:00 p.m. Adjourn for the Day

Julia R. Gordon,
Assistant Secretary for Housing—Federal Housing Commissioner.

[FR Doc. 2024-16967 Filed 7-31-24; 8:45 am]

BILLING CODE 4210-67-P